DEPARTMENT OF HEALTH AND HUMAN SERVICES

[Document Identifier OS-0990-New; 60-day Notice]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-6162. Written comments and recommendations for the proposed information collections must be directed to the OS Paperwork Clearance Officer at the above email address within 60 days.

Proposed Project: Children's Health Insurance Program Reauthorization Act (CHIPRA) 10-State Evaluation, Telephone Interviews with State CHIP Program Administrators—OMB No. 0990-NEW—Assistant Secretary for Planning and Evaluation.

Abstract: The Office of the Assistant Secretary for Planning and Evaluation (ASPE) is requesting the Office of Management and Budget (OMB) approval on a new collection to interview Children's Health Insurance Program (CHIP) administrators in all 50 States and the District of Columbia. These roughly 1 hour interviews, conducted by phone, will focus on understanding changes in the CHIP program since 2006, the role the CHIP Reauthorization Act (CHIPRA) of 2009 (Pub. L. 111-3) has played in influencing State CHIP programs, preparations for implementing the Patient Protection and Affordable Care Act of 2010 (Pub. L. 111-148), and State views on the future of CHIP. Going beyond facts and basic descriptive information, it will gather insights about the rationale behind State decisions and about issues requiring future attention. The information gathered will supplement two other data collection efforts which received clearance on December 12, 2011 (a survey of CHIP and Medicaid enrollees and disenrollees and case studies in 10 states, reference number 201110-0990-006, OMB control number 0990-0384). Data will only be collected once from the CHIP program administrators. We are seeking a 1 year approval period.

Estimated Annualized Burden Table
Forms | Type of respondent | Number of respondents | Number of responses per respondent | Average burden per response (in hours) | Total burden hours
Telephone Interview Discussion Guide | State CHIP Program Administrators ᵃ | 77 | 1 | 1 | 77
Total |  | 77 | 1 | 1 | 77
ᵃ This includes one respondent per State in the 25 States with only a separate CHIP program or a Medicaid expansion CHIP program, and two respondents per State in the 26 States with combination programs.

Keith A. Tucker,
Office of the Secretary, Paperwork Reduction Act Clearance Officer.

[FR Doc. 2012-13492 Filed 6-4-12; 8:45 am]

BILLING CODE 4150-05-P